DEPARTMENT OF HOMELAND SECURITY

Coast Guard

33 CFR Part 100

[Docket No. USCG-2025-0441]

Special Local Regulations; Marine Events Within the Fifth Coast Guard District; Washington, DC Dragon Boat Festival

AGENCY: Coast Guard, DHS.

ACTION: Notification of enforcement of regulation.

SUMMARY: The Coast Guard will enforce a special local regulation for a recurring marine event in the Fifth Coast Guard District. This regulation applies to the Washington, DC Dragon Boat Festival. This action is intended to restrict vessel traffic in a portion of the Upper Potomac River near Washington, DC, in order to provide for the safety of life on navigable waters during the event.

DATES: On May 31, 2025, from 7:30 a.m. until 6:30 p.m., the regulations in 33 CFR 100.501 will be enforced for the location identified in table 2 to 33 CFR 100.501(i)(2) for the event denominated as “Washington, DC Dragon Boat Festival.”

FOR FURTHER INFORMATION CONTACT: If you have questions about this notification of enforcement, call or email LCDR Kate M. Newkirk, Sector Maryland-NCR, Waterways Management Division, U.S. Coast Guard: telephone 410-576-2596, email MDNCRMarineEvents@uscg.mil.

SUPPLEMENTARY INFORMATION: The Coast Guard will enforce special local regulations in 33 CFR 100.501 for the Washington, DC Dragon Boat Festival regulated area from 7:30 a.m. to 6:30 p.m. on May 31, 2025. This action is being taken to provide for the safety of life on navigable waterways during this event. As stated in footnote one to table 2 to paragraph (i)(2), the enforcement dates and times for each of the listed events in the table are subject to change. Due to inclement weather, the Washington, DC Dragon Boat Festival has been rescheduled (for this year only) from the third weekend in May to May 31, 2025, for a one-day event. Our regulation for marine events within the Fifth Coast Guard District, § 100.501, specifies the location of the regulated area for the Washington, DC Dragon Boat Festival, which encompasses portions of the navigable waters of the Upper Potomac River. During the enforcement periods, as reflected in § 100.100(c), the operator of a vessel in the regulated area must comply with directions from the Patrol Commander or any Official Patrol displaying a Coast Guard ensign.

In addition to this notification of enforcement in the Federal Register, the Coast Guard plans to provide notification of this enforcement period via the Local Notice to Mariners and marine information broadcast.

Dated: May 21, 2025.
Patrick C. Burkett,
Captain, U.S. Coast Guard, Captain of the Port, Sector Maryland-National Capital Region.

[FR Doc. 2025-09644 Filed 5-28-25; 8:45 am]

BILLING CODE 9110-04-P